NATIONAL AERONAUTICS AND SPACE ADMINISTRATION

[Notice: 18-038]

Applied Sciences Advisory Committee; Meeting

AGENCY: National Aeronautics and Space Administration.

ACTION: Notice of meeting.

SUMMARY: In accordance with the Federal Advisory Committee Act, Public Law 92-463, as amended, the National Aeronautics and Space Administration (NASA) announces a meeting of the Applied Sciences Advisory Committee (ASAC). This Committee functions in an advisory capacity to the Director, Earth Science Division, in the NASA Science Mission Directorate. The meeting will be held for the purpose of soliciting, from the applied sciences community and other persons, scientific and technical information relevant to program planning.

DATES: Tuesday, June 5, 2018, 8:30 a.m. to 5:00 p.m., and Wednesday, June 6, 2018, 8:30 a.m. to 3:00 p.m., Local Time.

ADDRESSES: NASA Headquarters, Room 1Q39 (Day 1) and Room 3D42 (Day 2), 300 E Street SW, Washington, DC 20546.

FOR FURTHER INFORMATION CONTACT: Ms. KarShelia Henderson, Science Mission Directorate, NASA Headquarters, Washington, DC 20546, (202) 358-2355, fax (202) 358-2779, or khenderson@nasa.gov.

SUPPLEMENTARY INFORMATION: This meeting will be open to the public up to the capacity of the room. This meeting will also be available telephonically and via WebEx. You must use a touch-tone phone to participate in this meeting. Any interested person may dial the USA toll free conference call number (800) 988-0224, passcode 8126582, on both days, to participate in this meeting by telephone. The WebEx link is https://nasa.webex.com/; the meeting number on June 5 is 991 811 667 and the password is ScPG2AD@ (case sensitive); the meeting number on June 6 is 996 106 728 and the password is kxzVa3t$ (case sensitive).

The agenda for the meeting includes the following topics:

• Program and Budget Updates.

• Earth Decadal Survey.

• Applied Sciences Communications.

• Private Sector and Applications.

Attendees will be requested to sign a register and to comply with NASA Headquarters security requirements, including the presentation of a valid picture ID to Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees with U.S. citizens and Permanent Residents (green card holders) may provide full name and citizenship status no less than 3 working days in advance by contacting Ms. KarShelia Henderson via email at khenderson@nasa.gov or by fax at (202) 358-2779.

It is imperative that the meeting be held on these dates to accommodate the scheduling priorities of the key participants.

Patricia Rausch,
Advisory Committee Management Officer, National Aeronautics and Space Administration.

[FR Doc. 2018-09183 Filed 4-30-18; 8:45 am]

BILLING CODE 7510-13-P